ENVIRONMENTAL PROTECTION AGENCY

40 CFR Part 52

[EPA-R09-OAR-2022-0253; FRL-9611-02-R9]

Air Plan Approval; California; San Diego County; Reasonably Available Control Technology

AGENCY: Environmental Protection Agency (EPA).

ACTION: Final rule.

SUMMARY: The Environmental Protection Agency (EPA) is taking final action to approve revisions to the San Diego Air Pollution Control District (SDAPCD or “District”) portion of the California State Implementation Plan (SIP). These revisions concern SDAPCD's negative declarations for certain Control Techniques Guidelines (CTGs) as they apply to the 2008 and 2015 ozone national ambient air quality standards (NAAQS or “standards”) reasonably available control technology (RACT) SIP. We are approving revisions that regulate these emission sources under the Clean Air Act (CAA or the Act). This approval stops all sanction and federal implementation plan clocks started by our December 3, 2020 partial approval and partial disapproval.

DATES: This rule is effective June 29, 2022.

ADDRESSES: The EPA has established a docket for this action under Docket ID No. EPA-R09-OAR-2022-0253. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with disabilities who needs a reasonable accommodation at no cost to you, please contact the person identified in the FOR FURTHER INFORMATION CONTACT section.

FOR FURTHER INFORMATION CONTACT: Sina Schwenk-Mueller, EPA Region IX, 75 Hawthorne St., San Francisco, CA 94105. By phone: (415) 947-4100 or by email at SchwenkMueller.Sina@epa.gov.

SUPPLEMENTARY INFORMATION: Throughout this document, “we,” “us” and “our” refer to the EPA.

Table of Contents

I. Proposed Action

II. Public Comments and EPA Responses

III. EPA Action

IV. Statutory and Executive Order Reviews

I. Proposed Action

On April 13, 2022 (87 FR 21822), the EPA proposed to approve the following rule into the California SIP.

Table 1—Submitted Document ¹
Local agency | Document | Adopted | Submitted
SDAPCD | “2020 Reasonably Available Control Technology Demonstration for the National Ambient Air Quality Standards For Ozone in San Diego County, October 2020 (2020 RACT SIP)—Negative Declarations for the 2008 and 2015 NAAQS: | 10/14/2020 | 12/29/2020
| Control of Volatile Organic Emissions from Manufacture of Synthesized Pharmaceutical Products (EPA-450/2-78-029)
| Control Techniques Guidelines for Fiberglass Boat Manufacturing Materials (EPA-453/R-08-004)
| Control Techniques Guidelines for Miscellaneous Metal and Plastic Parts Coatings (EPA-453/R-08-003); Table 3—Plastic Parts and Products, Table 4—Automotive/Transportation and Business Machine Plastic Parts, Table 5—Pleasure Craft Surface Coating, Table 6—Motor Vehicle Materials

We proposed to approve these revisions because we determined that they comply with the relevant CAA requirements. Our proposed action contains more information on the rule and our evaluation.

¹ The EPA is only acting on the negative declarations for the Control Techniques Guidelines (CTGs) for Synthesized Pharmaceutical Products, Fiberglass Boat Manufacturing Materials, and Miscellaneous Metal and Plastic Products, Tables 3-6. The EPA will propose separate action on the remainder of the 2020 SDAPCD RACT SIP submittal at a future date.

II. Public Comments and EPA Responses

The EPA's proposed action provided a 30-day public comment period. During this period, we received one non-germane comment. Therefore, we are finalizing our action as proposed.

III. EPA Action

No comments were submitted that change our assessment of the rule as described in our proposed action. Therefore, as authorized in section 110(k)(3) of the Act, the EPA is fully approving the negative declarations into the California SIP. This approval stops all sanction and federal implementation plan clocks started by our December 3, 2020 partial approval and partial disapproval actions on the SDAPCD RACT SIP.

In accordance with 5 U.S.C. 553(d) of the Administrative Procedure Act (APA), the EPA finds there is good cause for this action to become effective immediately upon publication. The immediate effective date for this action is authorized under 5 U.S.C. 553(d)(1).

Section 553(d)(1) of the APA provides that final rules shall not become effective until 30 days after publication in the Federal Register “except . . . a substantive rule which grants or recognizes an exemption or relieves a restriction.” The purpose of this provision is to “give affected parties a reasonable time to adjust their behavior before the final rule takes effect.” Omnipoint Corp. v. Fed. Commc'n Comm'n, 78 F.3d 620, 630 (DC Cir. 1996); see also United States v. Gavrilovic, 551 F.2d 1099, 1104 (8th Cir. 1977) (quoting legislative history). However, when the agency grants or recognizes an exemption or relieves a restriction, affected parties do not need a reasonable time to adjust because the effect is not adverse. The EPA has determined that this rule relieves a restriction because this rule terminates the sanctions and federal implementation plan clocks started by our December 3, 2020 partial approval and partial disapproval. Upon the effective date of this action, the sanctions and federal implementation plan clocks will stop. For this reason, the EPA finds good cause under 5 U.S.C. 553(d)(1) for this action to become effective on the date of publication of this action.

IV. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this action merely approves state law as meeting federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

List of Subjects in 40 CFR Part 52

Environmental protection, Air pollution control, Incorporation by reference, Intergovernmental relations, Nitrogen dioxide, Ozone, Reporting and recordkeeping requirements, Volatile organic compounds.

Dated: June 14, 2022.
Martha Guzman Aceves,
Regional Administrator, Region IX.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding paragraphs (c)(573) through (584) and to read as follows:

§ 52.220 Identification of plan—in part.

(c) * * *

(573) through (583) [Reserved]

(584) The following plan was submitted on December 29, 2020, by the Governor's designee as an attachment to a letter dated December 28, 2020.

(i) [Reserved]

(ii) Additional materials.

(A) San Diego County Air Pollution Control District.

(1) Negative Declaration for “Control of Volatile Organic Emissions from Manufacture of Synthesized Pharmaceutical Products,” EPA-450/2-78-029, December 1978, as submitted in the 2020 Reasonably Available Control Technology Demonstration for the National Ambient Air Quality Standards for Ozone in San Diego County, adopted on October 14, 2020.

(2) Negative Declaration for “Control Techniques Guidelines for Miscellaneous Metal and Plastic Parts Coatings,” EPA-453/R-08-003, September 2008 (Tables 3-6), as submitted in the 2020 Reasonably Available Control Technology Demonstration for the National Ambient Air Quality Standards for Ozone in San Diego County, adopted on October 14, 2020.

(3) Negative Declaration for “Control Techniques Guidelines for Fiberglass Boat Manufacturing Materials,” EPA-453/R-08-004, September 2008, as submitted in the 2020 Reasonably Available Control Technology Demonstration for the National Ambient Air Quality Standards for Ozone in San Diego County, adopted on October 14, 2020.

(B) [Reserved]

3. Section 52.222 is amended by revising paragraph (a)(5)(ii) and adding paragraph (a)(5)(iii) to read as follows:

§ 52.222 Negative declarations.

(a) * * *

(5) * * *

(i) * * *

(ii) The following negative declarations for the 2008 ozone NAAQS were adopted by the San Diego Air Pollution Control District.

Table 4 to Paragraph (a)(5)(ii)—Negative Declarations for the 2008 Ozone NAAQS
CTG document No. | Title | Adopted: 12/14/2016 Submitted: 04/12/2017 SIP Approved: 12/03/2020 | Adopted: 10/14/2020 Submitted: 12/29/2020 SIP Approved: 6/29/2022
EPA-450/2-77-008 | Control of Volatile Organic Emissions from Existing Stationary Sources—Volume II: Surface Coating of Cans, Coils, Paper, Fabrics, Automobiles, and Light-Duty Trucks (Automobiles, and light-duty truck coatings only) | X |
EPA-450/2-77-025 | Control of Refinery Vacuum Producing Systems, Wastewater Separators, and Process Unit Turnarounds
EPA-450/2-77-032 | Control of Volatile Organic Emissions from Existing Stationary Sources—Volume III: Surface Coating of Metal Furniture | X |
EPA-450/2-77-033 | Control of Volatile Organic Emissions from Existing Stationary Sources—Volume IV: Surface Coating of Insulation of Magnet Wire | X |
EPA-450/2-77-034 | Control of Volatile Organic Emissions from Existing Stationary Sources—Volume V: Surface Coating of Large Appliances | X |
EPA-450/2-78-029 | Control of Volatile Organic Emissions from Manufacture of Synthesized Pharmaceutical Products |  | X
EPA-450/2-78-030 | Control of Volatile Organic Emissions from Manufacture of Pneumatic Rubber Tires | X |
EPA-450/2-78-032 | Control of Volatile Organic Emissions from Existing Stationary Sources—Volume VII: Factory Surface Coating of Flat Wood Paneling | X |
EPA-450/2-78-036 | Control of Volatile Organic Compound Leaks from Petroleum Refinery Equipment | X |
EPA-450/3-82-009 | Control of Volatile Organic Compound Emissions from Large Petroleum Dry Cleaners | X |
EPA-450/3-83-006 | Control of Volatile Organic Compound Leaks from Synthetic Organic Chemical Polymer and Resin Manufacturing Equipment | X |
EPA-450/3-83-007 | Control of Volatile Organic Compound Equipment Leaks from Natural Gas/Gasoline Processing Plants | X |
EPA-450/3-83-008 | Control of Volatile Organic Compound Emissions from Manufacture of High-Density Polyethylene, Polypropylene, and Polystyrene Resins | X |
EPA-450/3-84-015 | Control of Volatile Organic Compound Emissions from Air Oxidation Processes in Synthetic Organic Chemical Manufacturing Industry | X |
EPA-450/4-91-031 | Control of Volatile Organic Compound Emissions from Reactor Processes and Distillation Operations in Synthetic Organic Chemical Manufacturing Industry | X |
EPA-453/R-97-004 | Control of Volatile Organic Compound Emissions from Coating Operations at Aerospace Manufacturing and Rework Operations Aerospace MACT, see the Federal Register of 06/06/94 | X |
EPA-453/R-06-004 | Control Techniques Guidelines for Flat Wood Paneling Coatings | X |
EPA 453/R-07-004 | Control Techniques Guidelines for Large Appliance Coatings | X |
EPA 453/R-07-005 | Control Techniques Guidelines for Metal Furniture Coatings | X |
EPA-453/R-08-003 | Control Techniques Guidelines for Miscellaneous Metal and Plastic Parts Coatings Tables 3-6 |  | X
EPA-453/R-08-004 | Control Techniques Guidelines for Fiberglass Boat Manufacturing Materials |  | X
EPA-453/R-08-006 | Control Techniques Guidelines for Automobile and Light-Duty Truck Assembly Coatings | X |

(iii) The following negative declarations for the 2015 ozone NAAQS were adopted by the San Diego County Air Pollution Control District.

Table 5 to Paragraph (a)(5)(iii)—Negative Declarations for the 2015 Ozone NAAQS
CTG document No. | Title | Adopted: 10/14/2020 Submitted: 12/29/2020 SIP Approved: 6/29/2022
EPA-450/2-78-029 | Control of Volatile Organic Emissions from Manufacture of Synthesized Pharmaceutical Products | X
EPA-453/R-08-003 | Control Techniques Guidelines for Miscellaneous Metal and Plastic Parts Coatings Tables 3-6 | X
EPA-453/R-08-004 | Control Techniques Guidelines for Fiberglass Boat Manufacturing Materials. | X

4. Section 52.237 is amended by removing and reserving paragraphs (b)(2)(i)(C), (b)(2)(i)(E), and (b)(2)(i)(G).

[FR Doc. 2022-13378 Filed 6-28-22; 8:45 am]

BILLING CODE 6560-50-P